DEPARTMENT OF ENERGY

Federal Energy Regulatory Commission

[Docket No. RP01-207-000]

Boundary Gas Inc.; Notice of Proposed Changes in FERC Gas Tariff

January 17, 2001.

Take notice that on January 3, 2001, Boundary Gas Inc., (Boundary) tendered for filing as part of its FERC Gas Tariff, Second Revised Volume No. 1, the following tariff sheets:

To become effective March 25, 2000:

Fourth Revised Sheet No. 4

Fifth Revised Sheet No. 5

Fourth Revised Sheet No. 9

Fourth Revised Sheet No. 26

First Revised Sheet No. 27

Fourth Revised Sheet No. 28

Fourth Revised Sheet No. 30

To become effective September 20, 2000:

Fifth Revised Sheet No. 4

Sixth Revised Sheet No. 5

Fifth Revised Sheet No. 9

Fifth Revised Sheet No. 26

First Revised Sheet No. 29

Fifth Revised Sheet No. 30

To become effective December 27, 2000:

Second Revised Sheet No. 3

Seventh Revised Sheet No. 5

Third Revised Sheet No. 6

Second Revised Sheet No. 15

First Revised Sheet No. 19

Original Sheet No. 19A

First Revised Sheet No. 20

Original Sheet No. 20A

First Revised Sheet No. 21

Boundary states that the primary purpose of this filing is to revise Boundary's tariff to reflect recent changes to the Boundary Phase 2 Gas Sales Agreement (Sales Agreement), which is incorporated into Boundary's tariff. Specifically, this filing is designed to reflect recent changes in certain of Boundary's customers and a change in Boundary's corporate structure.

Boundary states that copies of this filing were served upon each of Boundary's customers and the state commissions in Connecticut, Massachusetts, New Hampshire, New Jersey, New York and Rhode Island.

Any person desiring to be heard or to protest said filing should file a motion to intervene or a protect with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-1918 Filed 1-22-01; 8:45 am]

BILLING CODE 6717-01-M